DEPARTMENT OF ENERGY

[EERE-2019-BT-PET-0019-0008]

Energy Efficiency Program for Industrial Equipment: Interim Determination Classifying North Carolina Advanced Energy Corporation as a Nationally Recognized Certification Program for Electric Motors and Small Electric Motors

AGENCY: Office of Energy Efficiency and Renewable Energy, Department of Energy.

ACTION: Notice of interim determination and request for public comments.

SUMMARY: This notice announces an interim determination classifying North Carolina Advanced Energy Corporation as a nationally recognized certification program under the Department of Energy's (DOE's) regulations regarding recognition of nationally recognized certification programs and procedures for recognition and withdrawal of recognition of accreditation bodies and certification programs for electric and small electric motors.

DATES: DOE will accept comments, data, and information with respect to the Advanced Energy Petition until January 22, 2020.

ADDRESSES: You may submit comments, identified by docket number “EERE-2019-BT-PET-0019-0008,” by any of the following methods:

Federal eRulemaking Portal: http://www.regulations.gov. Follow the instructions for submitting comments.

Email: AdvEnergyElecMotorsPet2019PET0019@ee.doe.gov. Include the docket number and/or RIN in the subject line of the message.

Postal Mail: Appliance and Equipment Standards Program, U.S. Department of Energy, Building Technologies Office, Mailstop EE-5B, 1000 Independence Avenue SW., Washington, DC, 20585-0121. Telephone: (202) 287-1445. If possible, please submit all items on a compact disc (“CD”), in which case it is not necessary to include printed copies.

No telefacsimilies (faxes) will be accepted.

Hand Delivery/Courier: Appliance and Equipment Standards Program, U.S. Department of Energy, Building Technologies Office, 950 L'Enfant Plaza, SW, Suite 600, Washington, DC, 20024. Telephone: (202) 287-1445. If possible, please submit all items on a CD, in which case it is not necessary to include printed copies.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at https://www.regulations.gov/docket?D=EERE-2019-BT-PET-0019. The docket web page contains instructions on how to access all documents, including public comments, in the docket.

FOR FURTHER INFORMATION CONTACT: Mr. Jeremy Dommu, U.S. Department of Energy, Building Technologies Program, EE-5B, 1000 Independence Avenue SW, Washington, DC 20585-0121. Telephone: (202) 586-9870. Email: Jeremy.Dommu@ee.doe.gov.

Mr. Michael Kido, U.S. Department of Energy, Office of the General Counsel, GC-33, 1000 Independence Avenue SW, Washington, DC 20585-0103. Telephone: (202) 586-8145. Email: Michael.Kido@hq.doe.gov.

For further information on how to submit a comment, review other public comments and the docket, or to request a public meeting, contact the Appliance and Equipment Standards Program staff at (202) 287-1445 or by email: ApplianceStandardsQuestions@ee.doe.gov.

SUPPLEMENTARY INFORMATION:

I. Background and Authority

Part C of Title III of the Energy Policy and Conservation Act, as amended (“EPCA”) contains energy conservation requirements for, among other things, electric motors and small electric motors, including test procedures, energy efficiency standards, and compliance certification requirements. 42 U.S.C. 6311-6316.¹ Section 345(c) of EPCA directs the Secretary of Energy to require manufacturers of electric motors “to certify through an independent testing or certification program nationally recognized in the United States, that [each electric motor subject to EPCA efficiency standards] meets the applicable standard.” 42 U.S.C. 6316(c). The United States Department of Energy (“DOE” or, in context, “the Department”) codified this requirement at 10 CFR 431.17(a)(5). DOE also established certain compliance testing requirements for manufacturers of small electric motors. 77 FR 26608 (May 4, 2012) Manufacturers of small electric motors have the option of either self-certifying the efficiency of their small electric motors or they can use a certification program nationally recognized in the U.S to certify them. (10 CFR 431.445) DOE developed a regulatory process for the recognition, and withdrawal of recognition, for certification programs nationally recognized in the U.S. The criteria and procedures for national recognition of an energy efficiency certification program for electric motors are codified at 10 CFR 431.20—10 CFR 431.21 for electric motors and at 10 CFR 431.447—10 CFR 431.448 for small electric motors. Each step of the process and evaluation criteria are discussed below.

¹ For editorial reasons, upon codification in the U.S. Code, Part C was re-designated Part A-1.

For a certification program to be classified by DOE as being nationally recognized in the United States for the testing and certification of electric motors and small electric motors, the organization operating the program must submit a petition to the Department requesting such classification, in accordance with the aforementioned sections.

For the Department to grant such a petition, the petitioner's certification program must:

(1) Have satisfactory standards and procedures for conducting and administering a certification system, and for granting a certificate of conformity;

(2) Be independent of electric motor and small electric motor manufacturers (as applicable), importers, distributors, private labelers or vendors;

(3) Be qualified to operate a certification system in a highly competent manner; and

(4) Be expert in the following test procedures and methodologies:

(a) For electric motors, it must be expert in the content and application of the test procedures and methodologies in IEEE Std 112-2004 Test Method B or CSA C390-10. It must have satisfactory criteria and procedures for the selection and sampling of electric motors tested for energy efficiency. (10 CFR 431.20(b)); and

(b) For small electric motors, it must be expert in the content and application of the test procedures and methodologies in IEEE Std 112-2004 Test Methods A and B, IEEE Std 114-2010, CSA C390-10, and CSA C747, or similar procedures and methodologies for determining the energy efficiency of small electric motors. It must have satisfactory criteria and procedures for the selection and sampling of electric motors tested for energy efficiency. (10 CFR 431.447(b))

The petition requesting classification as a nationally recognized certification program must contain a narrative statement explaining why the organization meets the above criteria, be accompanied by documentation that supports the narrative statement, and be signed by an authorized representative. (10 CFR 431.20(c), and 10 CFR 431.447(c)).

II. Discussion

Pursuant to §§ 431.20, 431.21, 431.447 and 431.448, on February 11, 2019, North Carolina Advanced Energy Corporation Efficiency Verification Services (“Advanced Energy”) submitted to DOE a Petition for Recognition related to the group's motor efficiency verification services. That petition, titled, “Energy Efficiency Evaluation of Electric Motors and Small Electric Motors to US Department of Energy Regulations as stipulated in 10 CFR part 431, subpart B and Subpart X” (“Petition” or “Advanced Energy Petition”), was accompanied by a cover letter from Advanced Energy to the Department containing four separate sections including individual narrative statements—(1) Standards and Procedures, (2) Independent Status, (3) Qualification of Advanced Energy to Operate a Certification System, and (4) Expertise in Electric Motor Test Procedures. The petition included supporting documentation on these subjects. The Department is required to publish in the Federal Register such petitions for public notice and solicitation of comments, data and information as to whether the Petition should be granted. 10 CFR 431.21(b) and 10 CFR 431.448(b). In accordance with requirements in 10 CFR 431.21(b) and 10 CFR 431.448(b), DOE published Advanced Energy's petition in the Federal Register on July 8, 2019 and requested public comments. 84 FR 32437.

In response to the notice of petition, DOE did not receive any comments. In addition, based on DOE's review of Advanced Energy's certification program, DOE has tentatively determined that Advanced Energy meets the requirements at 10 CFR 431.20-10 CFR 431.21 for electric motors and at 10 CFR 431.447-10 CFR 431.448 for small electric motors because they (1) have satisfactory standards and procedures for conducting and administering a certification system, (2) are independent of electric motor and small electric motor manufacturers, and (3) have expertise with both the electric motors and small electric motors test procedures. Therefore, after reviewing the materials submitted by Advanced Energy and comparing them against the required criteria under the relevant regulations, DOE finds no specific cause to reject Advanced Energy's request for recognition as a nationally recognized certification program for electric motors and small electric motors.

The Department hereby announces its interim determination pursuant to 10 CFR 431.21(d) and 10 CFR 431.448(d) that Advanced Energy is classified as a nationally recognized certification program for electric motors and small electric motors and will accept comments on this interim determination until January 22, 2020. Any person submitting written comments to DOE with respect to the Advanced Energy Petition must also, at the same time, send a copy of such comments to Advanced Energy. As provided under §§ 431.21(c) and 431.448(c), Advanced Energy may submit to the Department a written response to any such comments. After receiving any such comments and responses, the Department will issue a final determination on the Advanced Energy Petition, in accordance with § 431.21(e), and § 431.448(e) of 10 CFR part 431.

Signed in Washington, DC, on December 6, 2019.
Alexander N. Fitzsimmons,
Acting Deputy Assistant Secretary for Energy Efficiency, Energy Efficiency and Renewable Energy.

[FR Doc. 2019-27630 Filed 12-20-19; 8:45 am]

BILLING CODE 6450-01-P